DEPARTMENT OF AGRICULTURE

Food and Nutrition Service

Agency Information Collection Activities: Proposed Collection; Comment Request—School Lunch and Breakfast Cost Study-II

AGENCY: Food and Nutrition Service, USDA.

ACTION: Notice.

SUMMARY: In accordance with the Paperwork Reduction Act of 1995, this notice invites the general public and other public agencies to comment on the proposed collection of data for the School Lunch and Breakfast Cost Study-II in order to assess the adequacy of the Federal meal reimbursement rates.

DATES: Written comments must be received on or before December 6, 2005.

ADDRESSES: Comments are invited on: (a) Whether the proposed collection of information is necessary for the proper performance of the functions of the agency, including whether the information shall have practical utility; (b) the accuracy of the agency's estimate of the burden of the proposed collection of information, including the validity of the methodology and assumptions used; (c) ways to enhance the quality, utility, and clarity of the information to be collected; and (d) ways to minimize the burden of the collection of information on those who are to respond, including use of appropriate automated, electronic, mechanical, or other technological collection techniques or other forms of information technology.

Comments may be sent to Alberta Frost, Director, Office of Analysis, Nutrition and Evaluation, Food and Nutrition Service, U.S. Department of Agriculture, 3101 Park Center Drive, Room 1014, Alexandria, VA 22302. Comments may also be submitted via fax to the attention of Alberta Frost at 703-305-2576 or via e-mail to Alberta.Frost@fns.usda.gov.

All written comments will be open for public inspection at the office of the Food and Nutrition Service during regular business hours (8:30 a.m. to 5 p.m., Monday through Friday) at Room 1014, 3101 Park Center Drive, Alexandria, Virginia 22302.

All responses to this notice will be summarized and included in the request for OMB approval. All comments will be a matter of public record.

FOR FURTHER INFORMATION CONTACT: Requests for additional information or copies of this information collection should be directed to Alberta Frost at 703-305-2017.

SUPPLEMENTARY INFORMATION: Title: School Lunch and Breakfast Cost Study-II.

OMB Number: Not yet assigned.

Form Number: N/A.

Expiration Date: Not yet determined.

Type of Request: New Collection of Information.

Abstract: The School Lunch and Breakfast Cost Study-II will collect and analyze data from a nationally representative sample of public schools participating in the National School Lunch Program (NSLP). Data will be collected so as to provide sufficient information on school meal production costs to assess the adequacy of Federal meal reimbursement rates. The information will be used to determine the national average reported and full costs to produce NSLP and School Breakfast Program (SBP) reimbursable meals, the extent to which indirect costs are charged to School Food Authority (SFA) accounts for food service operations, the value of administrative costs used to produce reimbursable NSLP and SBP meals, and the composition of SFA revenues, including federal reimbursements, cafeteria sales and State and local cash assistance in comparison to costs.

Respondents: State Child Nutrition (CN) Directors, State Commodity Distributing Agency (SDA) Directors, and State Department of Education (SEA) Finance Officers. For public school districts participating in the NSLP: SFA directors and business managers, local educational agency (LEA) finance officers, and school administrators and food service managers.

Estimated Number of Respondents: One hundred twenty-two SFA directors will complete a mail questionnaire with telephone follow-up and be interviewed in-person using several different instruments. One hundred twenty-two SFA business managers and 122 LEA finance officers will be interviewed in person. One food service manager in each of three schools in each SFA (a total of 366 food service managers) will be interviewed by telephone prior to site visits. During the site visits the 366 food service managers will be interviewed in-person using several different instruments. Approximately 25 State CN directors; 25 SDA directors, and 25 SEA finance officers will be interviewed by telephone.

Number of Responses per Respondent: Each instrument will be administered once to each respondent except for food service managers. Food service managers will be interviewed once by telephone prior to the site visit; in addition food service managers will be interviewed on each day of the five-day site visit to complete menu and recipe records.

Estimated Time per Response: The attached table presents the burden for each type of respondent.

Estimated time per response: Respondent | Estimated time per response: Number | Estimated time per response: Number of administrations | Estimated time per response: Minutes | Estimated time per response: Total minutes
State CN Director Interview | 25 | 1 | 20 | 500
State SDA Administrator | 25 | 1 | 20 | 500
SEA Finance Officer Interview | 25 | 1 | 20 | 500
SFA Director: | 122
• Pre-Visit Questionnaire | 122 | 1 | 30 | 3,660
• School Paid Staff Roster | 122 | 1 | 15 | 1,830
• Central Staff Paid Staff Roster | 122 | 1 | 10 | 1,220
• Central Staff Time Allocation Grid | 122 | 1 | 10 | 1,220
• Food Service Expense Statement | 122 | 1 | 30 | 3,660
• Off-Budget Staff Roster | 122 | 1 | 10 | 1,220
• Off-Budget Time Allocation Grid | 122 | 1 | 10 | 1,220
Food service managers/Cooks: | 366
• School Information Summary | 366 | 1 | 10 | 3,660
• Kitchen Staff Time Allocation Grid | 366 | 1 | 15 | 5,490
• Menu Record | 366 | 5 | 15 | 27,450
• Recipe Record | 366 | 5 | 30 | 54,900
SFA Business Manager | 122 | 1 | 60 | 7,320
School Administrator Interview | 366 | 1 | 80 | 29,280
LEA Finance Officer | 122 | 1 | 60 | 7,320
Total Respondent Burden |  |  |  | 150,950

Estimated Total Annual Burden on Respondents: 2516 hours.

Dated: October 3, 2005.
Roberto Salazar,
Administrator, Food and Nutrition Service.

[FR Doc. 05-20255 Filed 10-6-05; 8:45 am]

BILLING CODE 3410-30-P